ENVIRONMENTAL PROTECTION AGENCY

[EPA-HQ-OAR-2016-0094-1138; FRL-9958-27-OEI]

Agency Information Collection Activities; Proposed Collection; Comment Request; Information Collection for Importation of On-Highway Vehicles and Motorcycles and Nonroad Engines, Vehicles, and Equipment

AGENCY: Environmental Protection Agency (EPA).

ACTION: Notice.

SUMMARY: The Environmental Protection Agency has submitted an information collection request (ICR), “Importation of On-highway Vehicles and Motorcycles and Nonroad Engines, Vehicles, and Equipment” EPA ICR Number 2583.01, OMB Control Number 2060-NEW to the Office of Management and Budget (OMB) for review and approval in accordance with the Paperwork Reduction Act (44 U.S.C. 3501 et seq.). This new ICR is the consolidation of two individual ICRS that are currently approved by OMB. EPA currently has an approved collection that covers the information requirements for importation of on-highway vehicles which expires on February 28, 2017 (OMB Control Number 2060-0095, ICR Number 0010.14). EPA also has an approved collection for information requirements for importation of nonroad engines and recreational vehicles (OMB Control Number 2060-0320, ICR Number 1723.07), which expires February 28, 2017.

Public comments were requested via the Federal Register on September 16, 2016 (81 FR 63758) during a 60-day comment period. This notice allows for an additional 30 days for public comments. A fuller description of the ICR is given below, including its estimated burden and cost to the public. An Agency may not conduct or sponsor and a person is not required to respond to a collection of information unless it displays a currently valid OMB control number.

DATES: Comments must be submitted on or before February 13, 2017.

ADDRESSES: Submit your comments referencing Docket ID No. EPA-HQ-OAR-2016-0094, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR will consolidate two separate ICRs that currently individually cover EPA Declaration Forms 3520-1, 3520-21, and 3520-8. EPA Declaration Form 3520-1 is used by importers of on-highway vehicles and motorcycles and EPA Declaration Form 3520-21 is used by importers of nonroad vehicles, engines and equipment to help facilitate importation of products at U.S. Borders. Each form identifies the regulated category of engine or vehicle and the regulatory provisions under which the importation is taking place. In addition, this ICR covers the burden of EPA Form 3520-8 which is used to request final importation clearance for Independent Commercial Importers (ICIs) of on-highway vehicles who are required to bring the on-highway vehicles into compliance and provide test results. This form is currently covered by OMB 2060-0095. EPA is consolidating these two ICRS due to the effort being undertaken by the U.S. Customs and Border Protection to require electronic filing for all importers. Over the last several years, CBP has been developing the Automated Commercial Environment (ACE) for electronic filing. By the end of 2016, ACE will become the primary system the trade community and other importers will use to report imports and exports. Through ACE as the single window, manual processes will be streamlined and automated, and paper submissions (e.g., fillable PDFs) will essentially be eliminated. However, EPA will continue to maintain the forms on our Web site in fillable PDF format.

EPA does not collect the forms, but rather makes them available to importers and CBP to facilitate entry of goods at the port. EPA may ask for them upon request to assist CPB and/or EPA enforcement personnel for any given import for which there are questions or issues. The forms are primarily used by CBP at the time of importation to assist CBP in making determination if entry should be allowed. CBP regulations require that the forms be submitted as applicable at the time of entry; see 19 CFR 12.73 and 12.74.

Form Numbers: 3520-1, 3520-21, 3520-8.

Frequency of Response: Once per entry. (One form per shipment may be used.)

Respondents/Affected Entities: Individual importers, or companies who import and/or manufacture on-highway vehicles and nonroad engines, vehicles, and equipment.

Respondent's Obligation to Respond: Required for any importer to legally import nonroad vehicles or engines into the U.S.

Estimated Number of Respondents: 14,810.

Total Estimated Burden: 13,985 hours (per year). Burden is defined at 5 CFR 1320.03(b).

Total Estimated Cost: $513,633 (per year), includes $48,064 annualized capital or operation & maintenance costs.

Changes in Estimates: EPA is establishing new burden estimates as we combine the burden estimates for the two separate ICRs that currently cover the forms.

Courtney Kerwin,
Director, Regulatory Supprt Division.

[FR Doc. 2017-00698 Filed 1-12-17; 8:45 am]

BILLING CODE 6560-50-P